DEPARTMENT OF THE TREASURY

Submission for OMB Review; Comment Request

September 22, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before October 27, 2011 to be assured consideration.

Internal Revenue Service (IRS)

OMB Number: 1545-0863.

Type of Review: Extension without change of a currently approved collection.

Title: LR-218-78 (Final) Product Liability Losses and Accumulations for Product Liability Losses.

Abstract: Generally, a taxpayer who sustains a product liability loss must carry the loss back 10 years. However, a taxpayer may elect to have such loss treated as a regular net operating loss under section 172. If desired, such election is made by attaching a statement to the tax return. This statement will enable the IRS to monitor compliance with the statutory requirements.

Respondents: Private Sector: Businesses or other for-profits.

Estimated Total Burden Hours: 2,500.

OMB Number: 1545-1647.

Type of Review: Extension without change of a currently approved collection.

Title: Revenue Procedure 2001-21 Debt Roll-Ups.

Abstract: This revenue procedure provides for an election that will facilitate the consolidation of two or more outstanding debt instruments into a single debt instrument. Under the election, taxpayers can treat certain exchanges of debt instruments as realization events for federal income tax purposes even though the exchanges do not result in significant modifications under 1.1001-33 of the Income Tax Regulations.

Respondents: Private Sector: Businesses or other for-profits.

Estimated Total Burden Hours: 75.

OMB Number: 1545-1650.

Type of Review: Extension without change of a currently approved collection.

Title: REG-208156-91 (Final) Accounting for Long-Term Contracts.

Abstract: The information collected is required to notify the Commissioner of a taxpayer's decision to sever or aggregate one or more long-term contracts under the regulations. The statement is needed so the Commissioner can determine whether the taxpayer properly severed or aggregated its contract(s). The regulations affect any taxpayer that manufactures or constructs property under long-term contracts.

Respondents: Private Sector: Businesses or other for-profits.

Estimated Total Burden Hours: 12,500.

OMB Number: 1545-1945.

Type of Review: Extension without change of a currently approved collection.

Title: TD 9328 (Final) Safe Harbor for Valuation Under Section 475.

Abstract: This document sets forth an elective safe harbor that permits dealers in securities and dealers in commodities to elect to use the values of positions reported on certain financial statements as the fair market values of those positions for purposes of section 475 of the Internal Revenue Code (Code). This safe harbor is intended to reduce the compliance burden on taxpayers and to improve the administrability of the valuation requirement of section 475 for the IRS.

Respondents: Private Sector: Businesses or other for-profits.

Estimated Total Burden Hours: 49,232.

OMB Number: 1545-2118.

Type of Review: Extension without change of a currently approved collection.

Title: Form 13562, Health Coverage Tax Credit (HCTC) General Registration Information Form; Form 13929, Health Coverage Tax Credit (HCTC) Paper Check Request.

Forms: 13562 and 13929.

Abstract: These forms are used to help manage the HCTC program. Health plan administrators will use these forms to submit requests of; changes to their account information, waivers from the Federal requirement that mandates all payments to be made via Electronic Funds Transfer (EFT), and to provide the required registration information into the HCTC program.

Respondents: Private Sector: Businesses or other for-profits.

Estimated Total Burden Hours: 875.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-24858 Filed 9-27-11; 8:45 am]

BILLING CODE 4810-01-P